NUCLEAR REGULATORY COMMISSION

10 CFR Part 50

Fire Protection

AGENCY: U.S. Nuclear Regulatory Commission.

ACTION: Availability of draft rule wording.

SUMMARY: The Nuclear Regulatory Commission (NRC) is making available the draft wording of a possible amendment to its regulations. The NRC has initiated this rulemaking to amend Title 10 of the Code of Federal Regulations (10 CFR) part 50.48, “Fire protection,” to endorse the National Fire Protection Association (NFPA) Standard 805, “Performance-Based Standard for Fire Protection for Light Water Reactor Electric Generating Plants 2001 Edition,” with exceptions, as a voluntary alternative fire protection requirement for holders of operating nuclear power plant licenses. In support of this rulemaking effort, the NRC is seeking public comment on the draft rule language.

DATES: Comments should be submitted within 45 days from the date of this notice. Any comments received after this date may not be considered during drafting of the proposed rule. Because of scheduling considerations in preparing a proposed rule, the NRC staff requests that stakeholders provide their comments at their earliest convenience before the end of the comment period, if practicable.

ADDRESSES: Submit written comments to: Secretary, U.S. Nuclear Regulatory Commission, Washington, DC 20555-0001, Attention: Rulemakings and Adjudications Staff, Mail Stop O-16C1 or deliver written comments to One White Flint North, 11555 Rockville Pike, Rockville, Maryland, between 7:30 a.m. and 4:15 p.m. on Federal workdays.

You may also provide comments via the NRC's interactive rulemaking Web site through the NRC's home page at http://ruleforum.llnl.gov. This site provides the capability to upload comments as files (any format), if your web browser supports that function. For information about the interactive rulemaking web site, contact Ms. Carol Gallagher at (301) 415-5905 or by e-mail to cag@nrc.gov. Copies of any comments received and certain documents related to this rulemaking may be examined at the NRC Public Document Room, located at One White Flint North, 11555 Rockville Pike (first floor), Rockville, Maryland. The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by e-mail to pdr@nrc.gov.

FOR FURTHER INFORMATION CONTACT: Leon E. Whitney, Office of Nuclear Reactor Regulation, U.S. Nuclear Regulatory Commission, Washington DC 20555-0001, telephone (301) 415-3081, e-mail: lew1@nrc.gov.

SUPPLEMENTARY INFORMATION: The NRC's existing fire protection requirements are derived from General Design Criterion 3, “Fire protection,” of Appendix A to 10 CFR part 50, 10 CFR 50.48, “Fire protection,” and for plants operating before January 1, 1979, certain provisions of Appendix R to 10 CFR part 50, “Fire Protection Program for Nuclear Power Facilities Operating Prior to January 1, 1979.” Exemptions approved by the staff may apply for individual licensees.

The current (10 CFR 50.48) fire protection requirements were developed before the staff or industry had the benefit of probabilistic risk assessments (PRAs) for fires and before there was a significant body of operating experience. These deterministic fire protection requirements have been described by industry representatives and some members of the public as “prescriptive” and an “unnecessary regulatory burden.” In the late 1990s, the Commission provided the NRC staff with guidelines to identify and assess performance-based approaches to regulation (see SECY-00-0191, and a Commission White Paper, “Risk-Informed and Performance-Based Regulation,” issued as a Staff Requirements Memorandum (SRM) to SECY-98-144). This guidance was in addition to the risk-related guidance in the NRC's Probabilistic Risk Assessment Policy Statement and Regulatory Guide 1.174, “An Approach for Using PRA in Risk-Informed Decisions on Plant-Specific Changes to the Licensing Basis.”

On January 13, 2001, the National Fire Protection Association Standards Council issued NFPA 805, 2001 Edition, as a performance-based American National Standard for light water nuclear power plants. As stated in Section 1.1 of the standard, “This standard specifies the minimum fire protection requirements for existing light water nuclear power plants during all phases of plant operation, including shutdown, degraded conditions, and decommissioning.” The U.S. Nuclear Regulatory Commission staff cooperatively participated in the development of NFPA 805. In the opinion of the NRC staff, with certain exceptions noted in Sections (c)(2) of the proposed rule revision, NFPA 805 could serve as a risk-informed, performance-based, voluntary alternative to the fire protection requirements of 10 CFR 50.48(b) and (f). Therefore, the staff requested (in SECY-00-009) and received Commission approval for proceeding with a rulemaking to permit reactor licensees to adopt NFPA 805, as excepted, as a voluntary alternative fire protection licensing basis for the requirements of 10 CFR 50.48(b) and (f). However, licensees which choose not to change their fire protection licensing basis would continue to be subject to the requirements of 10 CFR 50.48(b) and (f) as before.

ALTERNATIVE CONSENSUS STANDARDS: This draft rule revision is consistent with the requirements of the National Technology Advancement and Transfer Act of 1995, as the rule revision would endorse an industry consensus standard, NFPA 805, with exceptions. The NRC is seeking public comment on the proposed rule revision language. The NRC is also seeking public comment regarding whether there are consensus standards other than NFPA 805 that could be considered as voluntary alternatives to current fire protection regulations.

This draft rule language is preliminary and may be incomplete in one or more respects. This draft rule language has been released to inform stakeholders of the current status of the contemplated 10 CFR 50.48 rule change and to provide stakeholders with an opportunity to comment on a draft version. Comments received prior to publishing the proposed rule revision will be considered in the development of the proposed rule revision. As appropriate, the Statements of Consideration for the proposed rule will briefly discuss substantive changes made to the rule language as a result of comments received. Comments may be provided through the rulemaking Web site at http://ruleforum.llnl.gov or by mail as indicated under the ADDRESSES heading. The NRC may post updates periodically on the rulemaking web site that may be of interest to stakeholders.

Dated at Rockville, Maryland, this 12th day of December 2001.
For the Nuclear Regulatory Commission.
John N. Hannon,
Chief, Plant Systems Branch, Division of Systems Safety and Analysis, Office of Nuclear Reactor Regulation.

[FR Doc. 01-31217 Filed 12-19-01; 8:45 am]

BILLING CODE 7590-01-P